DEPARTMENT OF COMMERCE

Bureau of Industry and Security

Procedures for Participating in User Testing of the New Commerce 232 Exclusion Process Portal

AGENCY: Bureau of Industry and Security, Office of Technology Evaluation, U.S. Department of Commerce.

ACTION: Notice on procedures for requesting participation in user testing phase.

SUMMARY: The Department of Commerce has developed an online portal that will replace the use of the Federal rulemaking portal (http://www.regulations.gov) for persons submitting exclusion requests, objections to exclusion requests, rebuttals, and surrebuttals in connection with duties or quotas imposed pursuant to Section 232 of the Trade Expansion Act of 1962, as amended (“232”). In order to improve the 232 exclusion process, the Department of Commerce plans to transition to the new Commerce 232 portal sometime in late 2018 to early 2019. This notice describes the process for the public to submit requests to participate in the public testing phase of the new Commerce 232 portal, and the procedures for attending the public testing.

DATES: The public testing will be held on December 6 and 7, 2018 at the U.S. Department of Commerce, Room 6872A, 1401 Constitution Avenue NW, Washington, DC 20230. Each public testing day will be broken into a morning session from 9 a.m. to 12 p.m. and an afternoon session from 1 p.m. to 4 p.m.

FOR FURTHER INFORMATION CONTACT: Kevin Coyne, System & Application Support Division, Bureau of Industry and Security, U.S. Department of Commerce, kevin.coyne@bis.doc.gov. For more information about the section 232 program, including the regulations and the text of previous investigations, see www.bis.doc.gov/232.

For questions regarding the December 6 and 7 public testing, please contact Commerce232portal@bis.doc.gov, (202) 482-5642, or (202) 482-4757.

SUPPLEMENTARY INFORMATION:

Background

Two components of the Department of Commerce, the Bureau of Industry and Security (BIS) and the International Trade Administration (ITA), have developed a new Commerce 232 portal to facilitate parties' ability to make 232 exclusion-related submissions, and the Department of Commerce's management of the 232 exclusion process. The new Commerce 232 portal will replace the use of the Federal rulemaking portal (http://www.regulations.gov) for parties submitting exclusion requests, objections to exclusions requests, rebuttals, and surrebuttals under the 232 exclusion process. The new portal will streamline the exclusion process for external parties, including importers and domestic manufacturers, by replacing the data collection point with web-based forms, which will enhance data integrity and quality controls. In addition, this new system will allow parties to more easily view all exclusion request, objection, rebuttal, and surrebuttal documents in one, web-based system. Finally, parties will be able to track submission deadlines in this same system. The new portal will also allow for better collaboration between government agencies processing 232 exclusion requests.

The Department of Commerce plans to transition to the new Commerce 232 portal sometime in late 2018 to early 2019, once testing is completed and any final updates are made. This notice describes the process for the public to submit requests to participate in the public testing phase of the new Commerce 232 portal, and the procedures for attending the public testing.

Once the Commerce 232 portal is ready to be implemented, the Department of Commerce will publish a rule making changes to the 232 exclusion process in Supplements No. 1 (for steel exclusion requests) and 2 (for aluminum exclusion requests) to Part 705. The public will have an opportunity to submit comments on the new portal once the rule is published. As much as possible, the Department of Commerce seeks input from the public on the new Commerce 232 portal prior to it going live, and believes allowing parties that will use the new portal to test it and provide feedback to the development team prior to implementation will be beneficial to both the Department and the public users of the system.

Location for public testing. The public testing will occur in Washington, DC. See the ADDRESSES section for the physical address. There will be no remote testing available, so parties who wish to participate must attend the public testing in person.

Dates and times. The public testing will occur on December 6 and 7, 2018. Each public testing day will be broken into a morning session from 9:00 a.m. to 12:00 p.m. and an afternoon session from 1:00 p.m. to 4:00 p.m. Each party will be allowed to test the system for one hour and testing during each window will be limited to three parties at a time. For example, during the 10:00 a.m.-11:00 a.m. window, up to three parties can test the system at the same time.

Facilities and items to bring. The public testing will be done on government provided computers. Parties selected to participate are encouraged to bring examples of past exclusions, objections to exclusions, rebuttals, or surrebuttals they may have submitted or intend to submit in the near future to use in the testing environment. However, this is not required in order to participate in the public testing.

Foreign persons are not eligible to participate in the testing. People selected to participate in the testing of the Commerce 232 portal will be limited to citizens of the United States, lawful permanent residents of the United States, or any other protected individuals as defined by 8 U.S.C. 1324b(a)(3).

Costs to participate. There is no fee to participate in the public testing and participants will not be compensated for their time. In addition, participants will be responsible for all travel-related costs to attend the public testing.

Limit on number of participants. The public testing will be limited to thirty-six people because of the size limitations of the testing room and to provide sufficient opportunities for the development team to interact with those testing the Commerce 232 portal and providing feedback. Organizations may request more than one person from their organization to attend the public testing, but such requests will only be accommodated if there is space available.

Procedures To Request Participation in the Public Testing

Email requesting approval. Parties who wish to attend the public testing must send an email to Commerce232portal@bis.doc.gov to request approval to participate. Anyone wishing to attend this public testing must submit the email request no later than 5:00 p.m. (EST), November 29, 2018. The subject line of the email should be “Request to attend public testing of Commerce 232 portal.”

Information to include in email request: The following information must be included in the text of the email: (1) Full name of the person that wishes to attend the public testing and a telephone number and email for this person; (2) name of the person's organization, or state “individual” if not affiliated with an organization; (3) if applicable, identify the number of employees in the organization and the type of organization, e.g., manufacturer or distributor; (4) indicate whether the organization or individual has submitted any exclusions, objections to exclusions, rebuttals, or surrebuttals either for their own organization or on behalf of another organization; (5) if applicable, provide an estimate for the number of each type of 232 submission, including specifying whether the submissions were for steel and/or aluminum, (6) if applicable, identify any special accommodations that may be needed (see below under Special Accommodations); and (7) identify any other factors that you believe make you a good candidate to participate in the public testing of the Commerce 232 portal.

Selection Process

The Department of Commerce will accommodate as many parties as possible, space permitting. If thirty-six or fewer people submit requests to participate, the Department will likely approve all requesters, unless there is some reason why a requester may not be suitable. If more than thirty-six people request to participate, the Department will put greater weight on those that have submitted 232 submissions and will seek to have as representative a sample of public testers as possible (e.g., small and mid-size enterprises, as well as large organizations, and those from the steel and aluminum industries). If there are two equally situated individuals or organizations, the Department will generally use the date of the request to determine the organization or individual to be approved, favoring the requester whose request was submitted earlier.

Each person selected to participate in the public testing will be notified by the Department of Commerce no later than 5:00 p.m. Eastern Standard Time on Friday, November 30, 2018.

Procedures for Attending the Public Testing

Visitor Access Requirement: For participants attending the training, please note that federal agencies can only accept a state-issued driver's license or identification card for access to federal facilities if such license or identification card is issued by a state that is compliant with the REAL ID Act of 2005 (Pub. L. 109-13), or by a state that has an extension for REAL ID compliance. The main entrance of the Department of Commerce is on 14th Street, NW between Pennsylvania Avenue and Constitution Avenue, across from the Ronald Reagan Building. Upon entering the building, please go through security and check in at the guard's desk. BIS and ITA staff will meet and escort visitors to the public testing room. Admittance to the room for the public testing will be available beginning at 8:30 a.m. (EST) on December 6 and 7, 2018 and the public testing will start promptly at 9:00 a.m. (EST) on December 6 and 7, 2018.

Acknowledgement for Participation in Testing Environment: Because the individuals and organizations selected to participate in the public testing of the Commerce 232 portal will be participating in a testing environment, all selected participants on the first day of the testing will be required to acknowledge that their suggestions and comments may not be incorporated into the final version for technical or other reasons.

Special Accommodations

This public testing is physically accessible to people with disabilities. Requests for sign language interpretation or other auxiliary aids should be received by the Department of Commerce no later than November 29, 2018 and should be included in the email requesting participation in the public testing referenced above.

Dated: November 20, 2018.
Matthew S. Borman,
Deputy Assistant Secretary for Export Administration.

[FR Doc. 2018-25680 Filed 11-23-18; 8:45 am]

BILLING CODE 3510-33-P